DEPARTMENT OF TRANSPORTATION

Federal Aviation Administration

14 CFR Part 39

[Docket No. FAA-2013-0223; Directorate Identifier 2012-CE-049-AD; Amendment 39-17468; AD 2013-11-08]

RIN 2120-AA64

Airworthiness Directives; Pilatus Aircraft Ltd. Airplanes

AGENCY: Federal Aviation Administration (FAA), Department of Transportation (DOT).

ACTION: Final rule.

SUMMARY: We are superseding an existing airworthiness directive (AD) for Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. This AD results from mandatory continuing airworthiness information (MCAI) issued by an aviation authority of another country to identify and correct an unsafe condition on an aviation product. The MCAI describes the unsafe condition as failure to inspect and maintain stabilizer-trim attachment components and the flap actuator could result in loss of control. We are issuing this proposed AD to require actions to address the unsafe condition on these products.

DATES: This AD is effective July 29, 2013.

The Director of the Federal Register approved the incorporation by reference of certain publications listed in the AD as of July 29, 2013.

ADDRESSES: You may examine the AD docket on the Internet at http://www.regulations.gov or in person at the Docket Management Facility, U.S. Department of Transportation, Docket Operations, M-30, West Building Ground Floor, Room W12-140, 1200 New Jersey Avenue SE., Washington, DC 20590.

For service information identified in this AD, contact PILATUS AIRCRAFT LTD., Customer Service Manager, CH-6371 STANS, Switzerland; telephone: +41 (0) 41 619 65 01; fax: +41 (0) 41 619 65 76; Internet: http://www.pilatus-aircraft.com/#32. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to include an AD that would apply to the specified products. That NPRM was published in the Federal Register on March 7, 2013 (78 FR 14729), and proposed to supersede AD 2011-01-14, Amendment 39-16571 76 FR 5467; February 1, 2011). That NPRM proposed to correct an unsafe condition for the specified products. The MCAI states that:

The mandatory instructions and airworthiness limitations applicable to the Structure and Components of the PC-6 are specified in the Aircraft Maintenance Manual (AMM) under Chapter 4 or in the Airworthiness Limitations Document (ALS), depending on the aeroplane model.

These documents include the maintenance instructions and/or airworthiness limitations developed by Pilatus Aircraft Ltd. and approved by EASA. Failure to comply with these instructions and limitations could potentially lead to an unsafe condition. To address this potentially unsafe condition EASA issued AD 2010-0176 to require implementation of maintenance instructions and/or airworthiness limitations in accordance with Pilatus PC-6 ALS issue 1, dated 14 May 2010 and Pilatus PC-6 AMM Chapter 4, issue 12, dated 14 May 2010.

Since that AD was issued, Pilatus Aircraft Ltd published Pilatus PC-6 AMM (Number 01975) Chapter 4, issue 16 and PC-6 ALS (Number 02334) issue 3 to introduce a threshold for replacement of previously not listed Flap Actuator.

For the reason described above, this AD retains the requirement of AD 2010-0176, which is superseded, and requires the implementation of more restrictive maintenance requirements and/or airworthiness limitation as specified in issue 16 of Chapter 4 of AMM and issue 3 of ALS. This AD also requires replacement of any Flap Actuator which, on the effective date of this AD, has accumulated or exceeded 7 years since new or since last overhaul.

Comments

We gave the public the opportunity to participate in developing this AD. The following presents the comments received on the proposal and the FAA's response to each comment.

Use Latest Revision of the Airplane Maintenance Manual

Pilatus Aircraft stated that the latest revision of the Aircraft Maintenance Manual (AMM) 01975 be quoted in the AD, which is Pilatus PC-6 B2-H2/B2-H4 Maintenance Manual, document No. 01975, Revision No. 17, dated December 31, 2012. They stated this will prevent applications for an alternative method of compliance (AMOC) shortly after AD release and that the Airworthiness Limitations Section (ALS) section remained unchanged in this revision of the AMM. They stated the AMM update was released after the MCAI was submitted and the Aircraft Limitations document 02334 at Revision No. 3, dated July 31, 2012, is correct.

We agree and have added the reference to Pilatus PC-6 B2-H2/B2-H4 Maintenance Manual, document No. 01975, Revision No. 17, dated December 31, 2012 in paragraph (f)(1) of this AD.

Requested Change to Compliance Time

Pilatus Aircraft stated they found the specified compliance time complicated and not as intended in the ALS, therefore, they request the FAA use the compliance time and grace period as specified in the EASA AD 2012-0268 or Pilatus proposes a flight hour limitation also be added to paragraph (f)(3)(ii) in the NPRM. Pilatus commented that should an operator have more than 8 years but less than 8.5 years actuator service with no flight hour limitation, the operator with extreme operating hours may exceed the allowed 3,500-hour TIS or 350-hour TIS grace period.

We agree with this comment. We have revised paragraph (f)(3) to require replacement of the actuator if it has accumulated 3,500 hours TIS or 7 years or more since new or since last overhauled, with a 350-hour TIS or 6-month grace period.

Conclusion

We reviewed the relevant data, considered the comments received, and determined that air safety and the public interest require adopting the AD with the changes described previously and minor editorial changes. We have determined that these minor changes:

• Are consistent with the intent that was proposed in the NPRM (78 FR 14729, March 7, 2013) for correcting the unsafe condition; and

• Do not add any additional burden upon the public than was already proposed in the NPRM (78 FR 14729, March 7, 2013).

We also determined that these changes will not increase the economic burden on any operator or increase the scope of the AD.

Costs of Compliance

We estimate that this AD will affect 15 products of U.S. registry. We also estimate that it would take about 7 work-hours per product to comply with the basic requirements of this AD. The average labor rate is $85 per work-hour.

Based on these figures, we estimate the cost of the AD on U.S. operators to be $8,925, or $595 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16571 (76 FR 5467, February 1, 2011) and adding the following new AD:

2013-11-08 Pilatus Aircraft Ltd. Airplanes: Amendment 39-17468; Docket No. FAA-2013-0223; Directorate Identifier 2012-CE-049-AD.

(a) Effective Date

This airworthiness directive (AD) becomes effective July 29, 2013.

(b) Affected ADs

This AD supersedes AD number 2011-01-14, Amendment 39-16571 (76 FR 5467; February 1, 2011).

(c) Applicability

This AD applies to Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial numbers (MSN), and MSN 2001 through 2092, that are certificated in any category.

Note 1 of paragraph (c): For MSN 2001-2092, these airplanes are also identified as Fairchild Republic Company PC-6 airplanes, Fairchild Industries PC-6 airplanes, Fairchild Heli Porter PC-6 airplanes, or Fairchild-Hiller Corporation PC-6 airplanes.

(d) Subject

Air Transport Association of America (ATA) Code 5: Time Limits.

(e) Reason

This AD was prompted by inspection requirements of the stabilizer-trim attachment components. The inspection requirements have been revised to now include an additional inspection requirement for the flap actuator. We are issuing this proposed AD to update the maintenance program with new requirements and limitations.

(f) Actions and Compliance

Unless already done, do the following actions:

(1) For all affected Models PC-6/B2-H2 and PC-6/B2-H4: Before further flight after July 29, 2013 (the effective date of this AD), incorporate the maintenance requirements as specified in Chapter 04, Airworthiness Limitations, dated July 31, 2012, of the Pilatus PC-6 Maintenance Manual; into your FAA-accepted maintenance program (maintenance manual).

Note 2 of paragraph (f)(1) of this AD: European Aviation Safety Agency (EASA), which is the Technical Agent for the Member States of the European Community, has issued EASA AD No.: 2012-0268, dated December 19, 2012, that discusses revision 16 of the Pilatus PC-6 Maintenance Manual. Revision 16 and revision 17 of the Pilatus PC-6 Maintenance Manual both contain the Chapter 04, Airworthiness Limitations, dated July 31, 2012.

(2) For all affected Models PC-6 other than the Models PC-6/B2-H2 and PC-6/B2-H4: Before further flight after July 29, 2013 (the effective date of this AD), incorporate the maintenance requirements as specified in Pilatus PC-6 Airworthiness Limitations, Document No. 02334, Revision No. 3, dated July 31, 2012, into your FAA-accepted maintenance program.

(3) For all Models PC-6 airplanes: If the actuator has accumulated 3,500 hours TIS or more since new or last overhauled or 7 years or more since new or last overhauled, whichever occurs first, replacement of the flap actuator (except part numbers 978.73.14.101 and 978.73.14.103) is required within 350 hours TIS after July 29, 2013 (the effective date of this AD) or 6 months after July 29, 2013 (the effective date of this AD), whichever occurs first. Actuators with less than 3,500 hours TIS or 7 years since new or last overhauled are covered by the ALS requirement.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI EASA AD No.: 2012-0268, dated December 19, 2012; and Pilatus PC-6 B2-H2/B2-H4 Airplane Maintenance Manual (AMM); Document No. 01975, revision 17; dated December 31, 2012, for related information. For the Pilatus Aircraft Ltd. related information use the contact information found in paragraph (i)(3) of this AD.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Chapter 04, Airworthiness Limitations, dated July 31, 2012, of the Pilatus PC-6 Maintenance Manual.

(ii) Pilatus PC-6 Airworthiness Limitations, Document No. 02334, Revision No. 3, dated July 31, 2012.

(3) For Pilatus Aircraft Ltd. service information identified in this AD, contact Pilatus Aircraft Ltd., Customer Service Manager, CH-6371 STANS, Switzerland; telephone: +41 (0) 41 619 65 01; fax: +41 (0) 41 619 65 76; Internet: http://www.pilatus-aircraft.com/#32.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on May 22, 2013.
Earl Lawrence,
Manager, Small Airplane Directorate, Aircraft Certification Service.

[FR Doc. 2013-14967 Filed 6-21-13; 8:45 am]

BILLING CODE 4910-13-P